DEPARTMENT OF COMMERCE

National Oceanic and Atmospheric Administration

[I.D. 110905H]

Marine Mammals; File No. 1076-1789

AGENCY: National Marine Fisheries Service (NMFS), National Oceanic and Atmospheric Administration (NOAA), Commerce.

ACTION: Notice; receipt of application.

SUMMARY: Notice is hereby given that Alliance of Marine Mammal Parks and Aquariums, 418 North Pitt Street, Alexandria, Virginia 22314 [Kristi West, Ph.D., Principal Investigator], has applied in due form for a permit to import and export parts from all cetaceans and pinniped species (excluding walrus) for purposes of scientific research.

DATES: Written or telefaxed comments must be received on or before December 19, 2005.

ADDRESSES: The application and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1076-1789.

FOR FURTHER INFORMATION CONTACT: Jennifer Skidmore (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The Alliance of Marine Mammal Parks and Aquariums members participate in multiple research and husbandry programs with the overall objective to study and document the health and biology of wild marine mammals as well as those marine mammals maintained in public display, research, or stranding facilities. To fully achieve this objective, the applicant is requesting a permit to import/export parts and specimen samples (hard and soft parts) collected from all species of marine mammals (all cetaceans and pinnipeds, except for walrus). The majority of the specimens will be obtained from animals maintained in Alliance member facilities for public display. However, specimens from stranded animals and those involved in legally authorized research projects would also be covered by this permit. Topics of particular interest include diseases of marine mammals, effects of environmental contaminants, artificial insemination, stock structure, age determination, mortality determinations, pregnancy rates, calf production, feeding habits and nutrition, and distribution. Parts and specimen samples may be taken at any time during the year and in all areas worldwide. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376; http://www.nmfs.noaa.gov/pr/permits/review.htm;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)973-2935; fax (808)973-2941;

Northeast Region, NMFS, One Blackburn Drive, Gloucester, MA 01930-2298; phone (978)281-9200; fax (978)281-9371;

Southeast Region, NMFS, 263 13th Avenue South, Saint Petersburg, FL 33701; phone (727)824-5312; fax (727)824-5309.

Dated: November 10, 2005.
Stephen L. Leathery,
Chief, Permits, Conservation and Education Division, Office of Protected Resources, National Marine Fisheries Service.

[FR Doc. 05-22811 Filed 11-16-05; 8:45 am]

BILLING CODE 3510-22-S